DEPARTMENT OF HEALTH AND HUMAN SERVICES

Agency for Healthcare Research and Quality

Notice of Senior Executive Service Performance Review Board Membership

The Agency for Healthcare Research and Quality (AHRQ) announces the appointment of members to the AHRQ Senior Executive Service (SES) Performance Review Board (PRB). This action is being taken in accordance with 5 U.S.C. 4314(c)(4), which requires notice of appointment of members to performance review boards to be published in the Federal Register.

Members of the PRB are appointed in a manner that will ensure consistency, stability and objectivity in the SES performance appraisals. The function of the PRB is to make recommendations to the Director, AHRQ, relating to the performance of senior executives in the Agency.

The following persons will serve on the AHRQ SES Performance Review Board:

Irene Fraser

Stephen B. Cohen

William Munier

David Meyers

Michael Fitzmaurice

Phyllis Zucker

Mark Handelman

Jean Slutsky

For further information about the AHRQ Performance Review Board, contact Ms. Alison Reinheimer, Office of Performance, Accountability, Resources, and Technology, Agency for Healthcare Research and Quality, 540 Gaither Road, Suite 4010, Rockville, Maryland 20850.

Dated: November 26, 2012.
Carolyn M. Clancy,
Director, AHRQ.

[FR Doc. 2012-29033 Filed 12-3-12; 8:45 am]

BILLING CODE 4160-90-M